DEPARTMENT OF ENERGY

[Docket No. EA-250]

Application to Export Electric Energy; PSEG Energy Resources & Trade; LLC

AGENCY: Office of Fossil Energy, DOE.

ACTION: Notice of application.

SUMMARY: PSEG Energy Resources & Trade LLC (PSEG ER&T) has applied for authority to transmit electric energy from the United States to Canada pursuant to section 202(e) of the Federal Power Act.

DATES: Comments, protests or requests to intervene must be submitted on or before November 5, 2001.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On September 14, 2001, the Office of Fossil Energy (FE) of the Department of Energy (DOE) received an application from PSEG ER&T to transmit electric energy from the United States to Canada. PSEG ER&T is a wholly-owned subsidiary of Public Service Enterprise Group (“PSEG”). PSEG ER&T is a fully integrated marketing and trading organization that is active in the long-term and spot wholesale energy markets. The power to be exported by PSEG ER&T will be surplus to the needs of PSEG ER&T's native load and may be supplied by PSEG ER&T-owned generation or purchased from electric utilities, power marketers, and federal power marketing agencies in the United States.

PSEG ER&T proposes to arrange for the delivery of electric energy to Canada over the existing international transmission facilities owned by Basin Electric Power Cooperative, Bonneville Power Administration, Citizen Utilities, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, and Vermont Electric Transmission Company.

The construction, operation, maintenance, and connection of each of the international transmission facilities to be utilized by PSEG ER&T, as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with DOE on or before the date listed above.

Comments on the PSEG ER&T application to export electric energy to Canada should be clearly marked with Docket EA-250. Additional copies are to be filed directly with Steven R. Teitelman, President, PSEG Energy Resources & Trade LLC, 80 Park Plaza, T21, Newark, NJ 07102 AND Thomas P. Thackston, Senior Attorney, PSEG Services Corporation, 80 Park Plaza, T5G, Newark, New Jersey 07102.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.de.gov. Upon reaching the Fossil Energy Home page, select “Electricity Regulation,” and then “Pending Procedures” from the options menus.

Issued in Washington, DC, on September 28, 2001.
Anthony J. Como,
Deputy Director, Electric Power Regulation, Office of Coal & Power Import/Export, Office of Coal & Power Systems, Office of Fossil Energy.

[FR Doc. 01-24856 Filed 10-3-01; 8:45 am]

BILLING CODE 6450-01-P